ENVIRONMENTAL PROTECTION AGENCY

[FRL-7209-7]

Agency Information Collection Activities: Submission for OMB Review; Comment Request; Public Water Systems Supervision Program: Public Notification Amendment

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Public Water Systems Supervision (PWSS) Program: Public Notification Amendment, OMB Control No. 2040-0090. The ICR describes the nature of the information collection and its expected burden and cost; where appropriate, it includes the actual data collection instrument.

DATES: Comments must be submitted on or before June 10, 2002.

ADDRESSES: Send comments, referencing EPA ICR No. 0270.41 and OMB Control No. 2040-0090, to the following addresses: Susan Auby, U.S. Environmental Protection Agency, Collection Strategies Division (Mail Code 2822T), 1200 Pennsylvania Avenue, NW, Washington, DC 20460; and to Office of Information and Regulatory Affairs, Office of Management and Budget (OMB), Attention: Desk Officer for EPA, 725 17th Street, NW, Washington, DC 20503.

FOR FURTHER INFORMATION CONTACT: For a copy of the ICR contact Susan Auby at EPA by phone at (202) 566-1672, by e-mail at auby.susan@epamail.epa.gov, or download off the Internet at http://www.epa.gov/icr and refer to EPA ICR No. 0270.41. For technical questions about the ICR contact Lisa Christ at (202) 564-8354 in the Office of Ground Water Drinking Water.

SUPPLEMENTARY INFORMATION: Title: Public Water Systems Supervision Program: Public Notification Amendment (OMB Control No. 2040-0090; EPA ICR No. 0270.41) expiring June 30, 2002. This is a request for an revision of a currently approved collection.

Abstract: The 2001 PWSS Program ICR, approved by OMB in November 2001, was the result of a consolidation of some rules and activities covered in the 1993 PWSS ICR and activities and rules previously covered in other standalone ICRs. This ICR amends the 2001 PWSS Program ICR by incorporating the Public Notification ICR (EPA ICR No. 1898.02, OMB No. 2040-0209). The amendment revises the burden estimate for public notification regulations, as required by sections 1414(a)(1) and (a)(2) of the Safe Drinking Water Act. Public water systems are required to give notification to all persons served when a violation of EPA drinking water standards occurs and for other situations posing a risk to health. EPA regulations define the form, manner, frequency, and content of the notices. Ensuring implementation of these requirements by public water systems is principally a responsibility of the States, territories and tribes that have assumed primary enforcement responsibility (primacy) for public water systems under SDWA section 1413.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on January 4, 2002 (67 FR 585-586), no comments were received.

Burden Statement: The annual public reporting and recordkeeping burden for this collection of information is estimated to average 3.1 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Public Water Systems and Primacy Agencies.

Estimated Number of Respondents: 44,319.

Frequency of Response: varies by tier.

Estimated Total Annual Hour Burden: 785,590 hours.

Estimated Total Annualized Capital, O&M Cost Burden: $4,731,000.

Send comments on the Agency's need for this information, the accuracy of the provided burden estimates, and any suggested methods for minimizing respondent burden, including through the use of automated collection techniques to the addresses listed above. Please refer to EPA ICR No. 0270.41 and OMB Control No. 2040-0090 in any correspondence.

Dated: May 2, 2002.
Oscar Morales,
Director, Collection Strategies Division.

[FR Doc. 02-11649 Filed 5-8-02; 8:45 am]

BILLING CODE 6560-50-P